DEPARTMENT OF HOUSING AND URBAN DEVELOPMENT

[Docket No. FR-6392-D-02]

Order of Succession for the Office of the Chief Information Officer

AGENCY: Office of the Chief Information Officer, HUD.

ACTION: Notice of order of succession.

SUMMARY: In this notice, the Chief Information Officer (CIO) for the Department of Housing and Urban Development designates the Order of Succession for the Office of the Chief Information Officer. This Order of Succession supersedes all prior Orders of Succession for the Office of the Chief Information Officer, including the Order of Succession published in the Federal Register on September 14, 2016.

DATES: Applicable date: May 23, 2023.

FOR FURTHER INFORMATION CONTACT: John B. Shumway, Assistant General Counsel for Administrative Law, Office of General Counsel, Department of Housing and Urban Development, 451 7th Street SW, Room 9244, Washington, DC 20410, telephone number (202) 405-5190 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The CIO for the Department of Housing and Urban Development is issuing this Order of Succession of officials authorized to perform the functions and duties of the CIO when, by reason of absence, disability, or vacancy in office, the CIO is not available to exercise the powers or perform the duties of the office. This Order of Succession is subject to the provisions of the Federal Vacancies Reform Act of 1998 (5 U.S.C. 3345-3349d). This publication supersedes all prior orders of succession for the Office of the Chief Information Officer, including the Order of Succession published in the Federal Register on September 14, 2016 (81 FR 63200). Accordingly, the CIO designates the following Order of Succession:

Section A. Order of Succession

Subject to the provisions of the Federal Vacancies Reform Act of 1998 during any period when, by reason of absence, disability, or vacancy in office, the Chief Information Officer for the Department of Housing and Urban Development is not available to exercise the powers or perform the duties of the Chief Information Officer, the following officials within the Office of the Chief Information Officer are hereby designated to exercise the powers and perform the duties of the Office, including the authority to waive regulations. No individual who is serving in an office listed below in an acting capacity may act as the Chief Information Officer pursuant to this Order of Succession. These officials shall perform the functions and duties of the office in the order specified herein, and no official shall serve unless all the other officials, whose position titles precede theirs in this order, are unable to serve by reason of absence, disability, or vacancy in office.

(1) Deputy Chief Information Officer;

(2) Assistant Chief Information Officer for IT Infrastructure and Operations;

(3) Chief Technology Officer;

(4) Chief Information Security Officer;

(5) Assistant Chief Information Officer for Business and IT Resource Management;

(6) Assistant Chief Information Officer for Customer Relationship and Performance Management.

Section B. Authority Superseded

This Order of Succession supersedes all prior Orders of Succession for the Office of the Chief Information Officer, including the Order of Succession published on September 14, 2016 (81 FR 63200).

Authority: Section 7(d), Department of Housing and Urban Development Act, 42 U.S.C. 3535(d).

Dated: May 23, 2023.
Elizabeth Niblock,
Chief Information Officer.

[FR Doc. 2023-11376 Filed 5-26-23; 8:45 am]

BILLING CODE 4210-67-P